DEPARTMENT OF TRANSPORTATION

Federal Aviation Administration

Office of Commercial Space Transportation; Notice of Availability and Request for Comment on the Draft Environmental Assessment for the Houston Spaceport, City of Houston, Harris County, Texas

AGENCY: Federal Aviation Administration (FAA), Department of Transportation (DOT).

ACTION: Notice of Availability, Notice of Public Comment Period, Notice of Public Meeting, and Request for Comment.

SUMMARY: In accordance with the National Environmental Policy Act of 1969, as amended (NEPA; 42 United States Code 4321 et seq.), Council on Environmental Quality NEPA implementing regulations (40 Code of Federal Regulations parts 1500 to 1508), and FAA Order 1050.1E, Change 1, Environmental Impacts: Policies and Procedures, the FAA is announcing the availability of and requesting comments on the Draft Environmental Assessment for the Houston Spaceport (Draft EA).

FOR FURTHER INFORMATION CONTACT: Mr. Daniel Czelusniak, Office of Commercial Space Transportation, Federal Aviation Administration, 800 Independence Ave. SW., Suite 325, Washington, DC 20591; phone (202) 267-5924; or email houstonspaceportEA@houstontx.gov.

SUPPLEMENTARY INFORMATION: The Draft EA was prepared to analyze the potential environmental impacts of Houston Airport System's (HAS's) proposal to establish and operate a commercial space launch site at the Ellington Airport (EFD), in Houston, Texas and offer the site to prospective commercial space launch operators for the operation of horizontal take-off and horizontal landing Concept X and Concept Z reusable launch vehicles (RLVs). To operate a commercial space launch site, HAS must obtain a commercial space launch site operator license from the FAA. Under the Proposed Action addressed in the Draft EA, the FAA would: (1) Issue a launch site operator license to HAS for the operation of a commercial space launch site at EFD; (2) issue launch licenses to prospective commercial space launch operators that would allow them to conduct launches of horizontal take-off and horizontal landing Concept X and Concept Z RLVs from EFD, and (3) provide unconditional approval to the Airport Layout Plan (ALP) modifications that reflect the designation of a spaceport boundary and construction of planned spaceport facilities and infrastructure. Proposed launch operations would begin in 2015 and continue through 2019 in accordance with the terms of the launch site operator license. HAS proposes to provide RLV operators the ability to conduct up to 50 launches and landings (or 100 operations) per year, with approximately five percent of the operations expected to occur during night-time hours.

The Draft EA addresses the potential environmental impacts of implementing the Proposed Action and the No Action Alternative. Under the No Action Alternative, the FAA would not issue a launch site operator license to HAS, and thus no launch licenses to individual commercial space launch vehicle operators to operate at EFD. Also, there would be no need to update the EFD ALP, and thus there would be no FAA approval of a revised ALP. Existing operations would continue at EFD, which is currently classified as a commercial primary small-hub airport.

The environmental impact categories considered in the Draft EA include air quality; climate; coastal resources; compatible land use; Department of Transportation Act: Section 4(f); fish, wildlife, and plants; floodplains; hazardous materials, pollution prevention, and solid waste; historical, architectural, archaeological, and cultural resources; light emissions and visual impacts; natural resources and energy supply; noise; socioeconomics, environmental justice, and children's environmental health and safety risks; water quality; and wetlands. The Draft EA also considers the potential cumulative environmental impacts.

The FAA has posted the Draft EA on the FAA Office of Commercial Space Transportation Web site: http://www.faa.gov/about/office_org/headquarters_offices/ast/environmental/nepa_docs/review/documents_progress/.

A paper copy and electronic version (CD) of the Draft EA may be reviewed for comment during regular business hours at the following libraries:

• Clear Lake City-County Freeman Branch Library, 16616 Diana Lane, Houston, TX 77062

• Friendswood Public Library, 416 South Friendswood Drive, Friendswood, TX 77546

• Alvin Library, 105 South Gordon Street, Alvin, TX 77511

• Hitchcock Public Library, 8005 Barry Avenue, Hitchcock, TX 77563

The FAA will hold an open house public meeting to solicit comments from the public concerning the scope and content of the Draft EA. Details of the meeting are as follows:

• January 22, 2015, 5:30 p.m. to 8:30 p.m., Space Center Houston, Silvermoon Conference Room (1st floor), 1601 NASA Parkway, Houston, TX 77058

The public will be able to speak to project representatives one-on-one and submit written comments and/or provide oral comments to a stenographer. Oral and written comments are weighted evenly.

DATES: The FAA encourages all interested parties to provide comments concerning the scope and content of the Draft EA. To ensure that all comments can be addressed in the Final EA, comments on the draft must be received by the FAA on or before January 31, 2015, or 30 days from the date of publication of this Federal Register (FR) notice, whichever is later.

Comments should be as specific as possible and address the analysis of potential environmental impacts and the adequacy of the Proposed Action or merits of alternatives being considered. Reviewers should organize their comments to be meaningful and inform the FAA of their interests and concerns by quoting or providing specific references to the text of the Draft EA. Matters that could have been raised with specificity during the comment period on the Draft EA may not be considered if they are raised for the first time later in the decision process. This commenting procedure is intended to ensure that substantive comments and concerns are made available to the FAA in a timely manner so that the FAA has an opportunity to address them.

ADDRESSES: Please submit comments in writing to Mr. Daniel Czelusniak, Office of Commercial Space Transportation, Federal Aviation Administration, 800 Independence Ave. SW., Suite 325, Washington, DC 20591, or by email at houstonspaceportEA@houstontx.gov.

Issued in Washington, DC on December 22, 2014.
Daniel Murray,
Manager, Space Transportation Development Division.

[FR Doc. 2014-30558 Filed 12-30-14; 8:45 am]

BILLING CODE 4310-13-P